FEDERAL COMMUNICATIONS COMMISSION

Notice of Public Information Collection(s) Being Submitted for Review to the Office of Management and Budget

March 19, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 28, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at: Nicholas_A._Fraser@omb.eop.gov and to Judith-B. Herman@fcc.gov, Federal Communications Commission, or an e-mail to PRA@fcc.gov. To view a copy of this information collection request (ICR) submitted to OMB: (1) Go to the Web page: http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at: Judith-B.Herman@fcc.gov.

SUPPLEMENTARY INFORMATION: OMB Control Number: 3060-0767.

Title: Sections 1.2110, 1.2111 and 1.2112, Auction Forms and License Disclosure Requirements.

Form No.: N/A.

Type of Review: Extension of a currently approved collection.

Respondents: Business or other for-profit, not-for-profit institutions, and state, local or tribal government.

Number of Respondents: 22,000 respondents; 22,000 responses.

Estimated Time Per Response: 17.6 hours (average).

Frequency of Response: On occasion reporting requirement, recordkeeping requirement and third party disclosure requirement.

Obligation to Respond: Required to obtain or retain benefits.

Total Annual Burden: 390,750 hours.

Total Annual Cost: $23,966,750.

Privacy Act Impact Assessment: N/A.

Nature and Extent of Confidentiality: There is no need for confidentiality. However, if applicants wish to request confidential treatment of their filing, they may do so pursuant to 47 CFR 0.459 of the Commission's rules.

Needs and Uses: The Commission will submit this information collection (IC) to the OMB as an extension (no change in the reporting, recordkeeping and/or third party disclosure requirements) during this comment period to obtain the full three-year clearance from them. There is a significant decrease in the number of burden hours and annual costs because when this information was submitted to OMB in 2005, the burden estimates provided to them were too high. Therefore, the Commission has re-calculated the estimates to more accurately reflect the actual burden imposed on applicants. Finally, the Commission changed the title of this IC to note the specific rule sections for which the Commission seeks extension of OMB approval under this OMB Control Number 3060-0767. The Commission rule sections for this IC are section 1.2110, Designated Entities; Section 1.2111, Assignment or Transfer of Control: Unjust Enrichment; and section 1.2112, Ownership Disclosure Requirements for Applications.

Disclosure requirements regarding ownership and gross revenues information and calculations are designed to ensure that applicants are qualified to participate in Commission auctions and to ensure that license winners are entitled to receive small business preferences. Disclosures regarding joint bidding agreements and the associated certification are designed to prevent collusion. Disclosure of information regarding license transfers and partitioning is designed to deter unjust enrichment. Finally, records retention and maintenance by small business licensees is designed to prevent unjust enrichment and to facilitate enforcement efforts, if necessary.

Federal Communications Commission.
William F. Caton,
Acting Secretary.

[FR Doc. E8-6032 Filed 3-26-08; 8:45 am]

BILLING CODE 6712-01-P